DEPARTMENT OF DEFENSE

Defense Acquisition Regulations System

48 CFR Part 215

Defense Federal Acquisition Regulation Supplement; Technical Amendments

AGENCY: Defense Acquisition Regulations System, Department of Defense (DoD).

ACTION: Final rule.

SUMMARY: DoD is making a technical amendment to the Defense Federal Acquisition Regulation Supplement (DFARS) to add text and a reference to a memorandum from the Director, Defense Procurement and Acquisition Policy.

DATES: Effective Date: March 11, 2011.

Applicability Date: All solicitations for competitive, negotiated acquisitions issued after July 1, 2011, are subject to these procedures.

FOR FURTHER INFORMATION CONTACT: Ms. Ynette Shelkin, Defense Acquisition Regulations System, OUSD(AT&L)DPAP(DARS), Room 3B855, 3060 Defense Pentagon, Washington, DC 20301-3060. Telephone 703-602-8384; facsimile 703-602-0350.

SUPPLEMENTARY INFORMATION: This final rule amends DFARS by adding a section at 215.300 with a reference to Director, Defense Procurement and Acquisition Policy memorandum dated March 4, 2011, Department of Defense Source Selection Procedures. The memorandum provides mandatory requirements for conducting competitively negotiated acquisitions under FAR part 15 and outlines a common set of principles and procedures for conducting such acquisitions.

List of Subjects in 48 CFR Part 215

Government procurement.

Ynette R. Shelkin,
Editor, Defense Acquisition Regulations System.

Therefore, 48 CFR part 215 is amended as follows:

PART 215—CONTRACTING BY NEGOTIATION

1. The authority citation for 48 CFR part 215 continues to read as follows:

Authority: 41 U.S.C. 1303 and 48 CFR chapter 1.

2. Section 215.300 is added to subpart 215.3 to read as follows:

215.300 Scope of subpart.

Contracting officers shall follow the principles and procedures in Director, Defense Procurement and Acquisition Policy memorandum dated March 4, 2011, Department of Defense Source Selection Procedures, when conducting negotiated, competitive acquisitions utilizing FAR part 15 procedures.

[FR Doc. 2011-5601 Filed 3-10-11; 8:45 am]

BILLING CODE 5001-08-P